DEPARTMENT OF COMMERCE

National Oceanic and Atmospheric Administration

[I.D. 051904A]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Groundfish Trawl Individual Quota Analytical Team (TIQ Analytical Team) will hold a working meeting, which is open to the public.

DATES: The TIQ Analytical Team working meeting will begin Tuesday, June 8, 2004 at 8:30 a.m. and may go into the evening until business for the day is completed. The meeting will reconvene from 8 a.m. and continue until business for the day is complete on Wednesday, June 9, 2004.

ADDRESSES: The meeting will be held at The University Inn, Orcus Room, 4140 Roosevelt Way NE, Seattle, WA 98105; telephone: (206) 632-5055.

Council address: Pacific Fishery Management Council, 7700 NE Ambassador Place, Suite 200, Portland, OR 97220-1384.

FOR FURTHER INFORMATION CONTACT: Mr. Jim Seger, Staff Officer (Economist); telephone: (503) 820-2280.

SUPPLEMENTARY INFORMATION: The purpose of the TIQ Analytical Team meeting is to conduct preliminary scoping on the types impacts to be considered and analytical methods used in a groundfish trawl dedicated access privilege Environmental Impact Statement. Related data collection issues will also be discussed. A panel of independent advisors has been invited to work with the TIQ Analytical Team on these issues during the meeting.

Although non-emergency issues not contained in the TIQ Analytical Team meeting agenda may come before the group for discussion, those issues may not be the subject of formal committee action during these meetings. TIQ Analytical Team action will be restricted to those issues specifically listed in this notice and to any issues arising after publication of this notice requiring emergency action under Section 305(c) of the Magnuson-Stevens Fishery Conservation and Management Act, provided the public has been notified of the group's intent to take final action to address the emergency.

Special Accommodations

The meeting is physically accessible to people with disabilities. Requests for sign language interpretation or other auxiliary aids should be directed to Ms. Carolyn Porter at (503) 820-2280 at least 5 days prior to the meeting date.

Dated: May 20, 2004.
Matteo J. Milazzo,
Acting Director, Office of Sustainable Fisheries, National Marine Fisheries Service.

[FR Doc. 04-11803 Filed 5-24-04; 8:45 am]

BILLING CODE 3510-22-S